DEPARTMENT OF THE INTERIOR

National Park Service

[NPS-WASO-NAGPRA-15079; PPWOCRADN0-PCU00RP14.R50000]

Notice of Inventory Completion: U.S. Department of the Interior, Bureau of Indian Affairs, Washington, DC, and the Thomas Burke Memorial Washington State Museum, University of Washington, Seattle, WA

AGENCY: National Park Service, Interior.

ACTION: Notice.

SUMMARY: The U.S. Department of the Interior, Bureau of Indian Affairs and the Thomas Burke Memorial Washington State Museum, University of Washington (Burke Museum), have completed an inventory of human remains and associated funerary objects, in consultation with the appropriate Indian tribes or Native Hawaiian organizations, and have determined that there is a cultural affiliation between the human remains and associated funerary objects and present-day Indian tribes or Native Hawaiian organizations. Lineal descendants or representatives of any Indian tribe or Native Hawaiian organization not identified in this notice that wish to request transfer of control of these human remains and associated funerary objects should submit a written request to the Bureau of Indian Affairs. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Bureau of Indian Affairs at the address in this notice by April 23, 2014.

ADDRESSES: Anna Pardo, Museum Program Manager/NAGPRA Coordinator, U.S. Department of the Interior, Indian Affairs, 12220 Sunrise Valley Drive, Room 6084, Reston, VA 20191, telephone (703) 390-6343.

SUPPLEMENTARY INFORMATION: Notice is here given in accordance with the Native American Graves Protection and Repatriation Act (NAGPRA), 25 U.S.C. 3003, of the completion of an inventory of human remains and associated funerary objects under the control of the U.S. Department of the Interior, Bureau of Indian Affairs and in the physical custody of the Burke Museum. The human remains and associated funerary objects were removed from Okanogan County, WA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the U.S. Department of the Interior, Bureau of Indian Affairs and the Burke Museum professional staff in consultation with representatives of the Confederated Tribes of the Colville Reservation.

History and Description of the Remains

In 1950, human remains representing, at minimum, one individual were removed from site 45-OK-10 in the Chief Joseph Reservoir, Okanogan County, WA. The site (45-OK-10) is located within the current boundaries of the Confederated Tribes of the Colville Reservation. The human remains and associated funerary objects were collected on a University of Washington Field Party possibly under the direction of Douglas Osborne, as a part of archeological investigations in Okanogan County in the Chief Joseph Reservoir. The human remains and associated funerary objects were received by the Burke Museum in 1950 (Burke Accn. #1966-92). No known individuals were identified. The 10 associated funerary objects include 1 lot of nails, 3 lots of unmodified wood and soil, 1 metal picture frame, 1 metal object (possible pillbox), 1 ceramic knob, 1 spoon, 1 composite artifact bag containing metal and fabric fragments, and 1 bag of fabric.

Geographic, historic, and anthropological evidence indicates that the human remains are Native American. The site (45-OK-10) is located within the current boundaries of the Confederated Tribes of the Colville Reservation. This area was historically and prehistorically occupied by the Interior Salishan group, the Nespelem. The artifacts from the site include both pre- and post-contact materials. A trade button dating between 1830-1845 was found at the site and indicates occupation during the historic time period. The site is located between two major Hudson's Bay Company Forts, Fort Okanogan, which was in operation between 1812 to 1860, and Fort Colville, which was in operation between 1825-1870. There were few Euro-American settlers in the area until after 1900 (Osborne, Crabtree, and Brian 1952). Sites in the surrounding area (45OK159 and 45OK7) include historic funerary objects associated with Native American burials (Cook 2013). The Nespelem traditionally occupied the area surrounding the Nespelem River and the Columbia River to the confluence with the Okanogan River (Ruby and Brown 2010). The Nespelem speak Interior Salish. Today, the Nespelem are represented by the Confederated Tribes of the Colville Reservation.

Determinations Made by the U.S. Department of the Interior, Bureau of Indian Affairs and the Burke Museum

Officials of the U.S. Department of the Interior, Bureau of Indian Affairs, and the Burke Museum have determined that:

• Based on historic, geographic, and anthropological evidence, the human remains have been determined to be Native American.

• Pursuant to 25 U.S.C. 3001(9), the human remains described in this notice represent the physical remains of one individual of Native American ancestry.

• Pursuant to 25 U.S.C. 3001(3)(A), the ten objects described in this notice are reasonably believed to have been placed with or near individual human remains at the time of death or later as part of the death rite or ceremony.

• Pursuant to 25 U.S.C. 3001(2), there is a relationship of shared group identity that can be reasonably traced between the Native American human remains and associated funerary objects and the Confederated Tribes of the Colville Reservation.

Additional Requestors and Disposition

Lineal descendants or representatives of any Indian tribe or Native Hawaiian organization not identified in this notice that wish to request transfer of control of these human remains and associated funerary objects should submit a written request with information in support of the request to Anna Pardo, Museum Program Manager/NAGPRA Coordinator, U.S. Department of the Interior, Indian Affairs, 12220 Sunrise Valley Drive, Room 6084, Reston, VA 20191, telephone (703) 390-6343, by April 23, 2014. After that date, if no additional requestors have come forward, transfer of control of the human remains and associated funerary objects to the Confederate Tribes of the Colville Reservation may proceed.

The U.S. Department of the Interior, Bureau of Indian Affairs, is responsible for notifying the Confederated Tribes of the Colville Reservation that this notice has been published.

Dated: February 19, 2014.
Melanie O'Brien,
Acting Manager, National NAGPRA Program.

[FR Doc. 2014-06273 Filed 3-21-14; 8:45 am]

BILLING CODE 4310-50-P